DEPARTMENT OF COMMERCE

International Trade Administration

Renewable Energy Policy Business Roundtable in Japan

AGENCY: International Trade Administration, Department of Commerce.

ACTION: Revised Notice.

SUMMARY: The U.S. Department of Commerce's International Trade Administration (ITA) is coordinating a Renewable Energy Policy Business Roundtable, which will be held on December 3, 2012 in Tokyo in conjunction with the U.S.-Japan Energy Policy Dialogue. The U.S. Department of Energy—the lead U.S. agency for the bilateral dialogue taking place in Fukushima—will co-chair the Roundtable. ITA is seeking the participation of approximately 20 U.S. companies (up to two representatives per company) in the Roundtable and related events in the Touhoku region. The dialogue will provide an opportunity for Japanese policy-makers to benefit from the viewpoints of U.S. clean energy companies and those companies to be able to learn more about the policy and regulatory landscape for renewable energy developing in Japan at this time.

Following the Roundtable, the delegation will travel to Fukushima Prefecture and Sendai for site visits. Participants will learn firsthand the current condition of reconstruction following the March 2011 earthquake and tsunami, and the role of renewable energy in those efforts, including local government incentives. The U.S. Department of Commerce's Commercial Service will also be available in Tokyo to provide its counseling services to participating companies whose products or services include at least 51 percent U.S. content.

The Roundtable and Tour support ITA's commitments contained in the Renewable Energy and Energy Efficiency Export Initiative, which aims to significantly increase U.S. RE&EE exports during the National Export Initiative, which sets the ambitious goal of doubling U.S. exports by the end of 2014.

DATES: The roundtable and other related events will be held in Japan the week of December 3-7, 2012. Participants must apply online no later than November 9, 2012.

FOR FURTHER INFORMATION CONTACT:

Cora Dickson, Manufacturing and Services, Office of Energy and Environmental Industries, Phone: 202-482-6083, Email: Cora.Dickson@trade.gov.

Gregory Briscoe,

U.S. Commercial Service Tokyo,

Phone: +81-3-3224-5088,

Email: Gregory.Briscoe@trade.gov.

SUPPLEMENTARY INFORMATION: This notice updates and replaces 77 FR 60380 Document Number 2012-24297, published October 3, 2012.

Background:

A Japanese Cabinet advisory panel recently recommended that Japan phase out nuclear power by the 2030s, increase its reliance on renewable energy, and take steps to improve energy efficiency. In 2011, approximately 10 percent of Japan's electricity was derived from renewable energy. This percentage is expected to increase as various incentives, including a new feed-in tariff system (for solar, wind, geothermal, micro/small/medium hydro, and biomass/biogas), are introduced to promote investor confidence in renewable energy projects. A long-term reform process in the electricity sector is also taking shape that may allow for more diversity in energy sources as well as hasten the deployment of smart grid technology.

All of these factors point toward potential opportunities for American companies to work together with the Japanese government and industry to deploy renewable energy technologies. U.S. clean energy companies can contribute to the changing Japanese policy and regulatory landscape by exchanging views with Japan's policymakers and representatives from the private sector, who will also join the Roundtable. A frank and open discussion between policy makers and industry about renewable energy will enhance the bilateral Energy Policy Dialogue by identifying key policy issues and sharing best practices.

Goals:

• Gain a deeper understanding of the changing Japanese policy and regulatory landscape;

• Interact with policymakers and representatives from the private sector in Japan;

• Enhance the bilateral Energy Policy Dialogue by identifying key policy issues and sharing best practices; and

• Travel to the northeast region to see firsthand how communities are incorporating renewable energy in their reconstruction efforts.

Roundtable/Tour Activities:

During the Roundtable and Tour, participants will:

• Receive market briefings on the status of the renewable energy market in Japan, including an assessment of upcoming opportunities;

• Receive a Market Assessment Report on opportunities in Japan's renewable energy market;

• Be introduced to key Japanese government officials and decision-makers during the Roundtable;

• Exchange views with counterparts from the Japanese private sector;

• Attend a networking reception at the Ambassador's Residence as well as a reception organized by the Japanese government in Fukushima;

• Make courtesy calls with the Fukushima and Sendai prefectural governments to learn about local policy issues for renewable energy and smart communities;

• Make visits to renewable energy and smart grid deployments in Fukushima and Sendai; and

• Take advantage of the Commercial Service in Tokyo's services, if appropriate.

• A more detailed tentative schedule and links for online application are posted at http://export.gov/reee/eg_main_054052.asp.

Participation Requirements:

All parties interested in participating in the Roundtable/Tour or Roundtable Only must complete and submit an application package for consideration by the Department of Commerce. All applicants will be evaluated based on their ability to meet certain conditions and best satisfy the selection criteria as outlined below. A minimum of 20 and maximum of 25 companies will be selected to participate in the Roundtable and Tour from the applicant pool. U.S. companies already doing business in Japan as well as U.S. companies seeking to enter to the Japanese market for the first time may apply.

Applications will be reviewed on a rolling basis in the order that they are received. In the event that applicants for the Roundtable and Touhoku Tour do not fill the spaces available, applicants for only the Roundtable on December 3 will be considered. Pre-registrations for Roundtable Only applications will be taken concurrently with applications for the Roundtable and Touhoku Tour.

Fees:

After a company has been selected to participate in the Roundtable, a participation fee is required. The participation fee for the Roundtable and Tour will be $2,100.00 ($2,000 for SME) for the first representative and $1,500.00 ($1,400 for SME) for a second representative (who will act as an observer at the Roundtable). If the second representative for a company attends solely the Roundtable (also as an observer) the fee is $750.00 ($650 for SME). If space is available for the Roundtable and applicants are selected to participate solely in the roundtable, the fee will be $750.00 ($650.00 for SME) for either a primary or secondary representative.

An SME is defined as a firm with 500 or fewer employees or that otherwise qualifies as a small business under SBA regulations (see http://www.sba.gov/size). Parent companies, affiliates, and subsidiaries will be considered when determining business size. The dual pricing reflects the Commercial Service's user fee schedule that became effective May 1, 2008. For additional information, see http://www.export.gov/newsletter/march2008/initiatives.html

Exclusions & Expenses:

The conference fee does not include any personal travel expenses such as lodging, most meals, incidentals, local ground transportation, except as stated in the proposed timetable, and air transportation from the U.S. to the event location and return to the United States. Delegation members will be able to take advantage of U.S. Embassy rates for hotel rooms and group rates for train tickets. Business visas may be required. Government fees and processing expenses to obtain such visas are also not included in the Roundtable/Tour costs. However, the U.S. Department of Commerce will provide instructions to each participant on the procedures required to obtain necessary business visas.

Conditions for Participation:

An applicant must register online at http://export.gov/reee/eg_main_054052.asp. In addition, the applicant must send an email to the U.S. Department of Commerce staff (see Contacts) addressing how he/she satisfies the four selection criteria listed below.

• Whether the applicant represents a U.S. company that fits one of the following profiles:

(1) Companies that manufacture technology or provide services in the renewable energy sector (particularly solar, wind, biomass, geothermal, and small/medium hydro);

(2) Developers of renewable energy projects with global experience; and

(3) Companies active in the smart grid industry.

• The applicant's potential for or interest in doing business in Japan;

• The applicant's ability to identify and discuss policy issues relevant to U.S. competitiveness in the renewable energy or smart grid sectors;

• Consistency of the applicant's goals and objectives with the stated scope of the event.

Diversity of company size and location may also be considered during the selection process. Referrals from political organizations and any documents containing references to partisan political activities (including political contributions) will be removed from an applicant's submission and not considered during the selection process.

Selected applicants will be asked to sign a Participation Agreement with the Department of Commerce in addition to the following mandatory certifications (applicants that cannot attest to these certifications cannot participate):

• The export of the products and services that it wishes to promote would be in compliance with U.S. export controls and regulations;

• Company/Organization has identified to the Department of Commerce for its evaluation any business pending before the Department of Commerce that may present the appearance of a conflict of interest;

• Company/Organization has identified any pending litigation (including any administrative proceedings) to which it is a party that involves the Department of Commerce;

• Company/Participant agrees that it and its affiliates (1) have not and will not engage in the bribery of foreign officials in connection with the Company's/Participant's involvement in this mission, and (2) maintain and enforce a policy that prohibits the bribery of foreign officials.

Timeline for Recruitment and Applications

Recruitment for the Roundtable/Tour will begin immediately and conclude no later than November 9, 2012. The U.S. Department of Commerce will review applications and make selection decisions on a rolling basis beginning on or about October 25, 2012. Applications received after November 9, 2012 will be considered only if space and scheduling constraints permit.

Dated: October 16, 2012.
Edward A. O'Malley,
Director, Office of Energy and Environmental Industries.

[FR Doc. 2012-25940 Filed 10-19-12; 8:45 am]

BILLING CODE 3510-DR-P